DEPARTMENT OF HEALTH AND HUMAN SERVICES

Centers for Disease Control and Prevention

Disease, Disability, and Injury Prevention and Control Special Emphasis Panel (SEP): Initial Review

The meeting announced below concerns Occupational Safety and Health Education and Research Centers (ERC) PAR 10-217, initial review.

In accordance with Section 10(a)(2) of the Federal Advisory Committee Act (Pub. L. 92-463), the Centers for Disease Control and Prevention (CDC) announces the aforementioned meeting:

Times and Dates:

8:00 a.m.-5:00 p.m., February 26, 2013 (Closed).

8:00 a.m.-5:00 p.m., February 27, 2013 (Closed).

8:00 a.m.-12:00 p.m., February 28, 2013 (Closed).

Place: Renaissance Atlanta Midtown Hotel, 866 W. Peachtree Street, NW., Atlanta, Georgia 30308, Telephone: (678) 412-2400.

Status: The meeting will be closed to the public in accordance with provisions set forth in Section 552b(c) (4) and (6), Title 5 U.S.C., and the Determination of the Director, Management Analysis and Services Office, CDC, pursuant to Public Law 92-463.

Matters To Be Discussed: The meeting will include the initial review, discussion, and evaluation of applications received in response to “Occupational Safety and Health Education and Research Centers (ERC) PAR 10-217.”

Contact Person for More Information: George Bockosh, M.S., Scientific Review Officer, CDC/NIOSH, 626 Cochrans Mill Road, Mailstop P-05, Pittsburgh, Pennsylvania 15236, Telephone: (412) 386-6465; Joan Karr, Ph.D., Scientific Review Officer, CDC/NIOSH 1600 Clifton Road, Mailstop E-74, Atlanta, Georgia 30333, Telephone: (404) 498-2506.

The Director, Management Analysis and Services Office, has been delegated the authority to sign Federal Register notices pertaining to announcements of meetings and other committee management activities, for both the Centers for Disease Control and Prevention and the Agency for Toxic Substances and Disease Registry.

Dated: December 4, 2012.
Elaine L. Baker,
Director, Management Analysis and Services Office, Centers for Disease Control and Prevention.

[FR Doc. 2012-29908 Filed 12-10-12; 8:45 am]

BILLING CODE 4163-18-P